DEPARTMENT OF THE INTERIOR

Bureau of Land Management

[LLORP000000.102000000.DF0000.14X. HAG14-0002]

Notice of Public Meeting for the John Day; Snake Resource Advisory Council

AGENCY: Bureau of Land Management, Interior.

ACTION: Notice of Public Meeting.

SUMMARY: In accordance with the Federal Land Policy and Management Act and the Federal Advisory Committee Act of 1972, and the U.S. Department of the Interior, Bureau of Land Management (BLM), the John Day—Snake Resource Advisory Council (RAC) will meet as indicated below:

DATES: The John Day—Snake RAC will hold a public meeting Thursday and Friday, November 14 and 15, 2013. The exact meeting time, agenda, and location will be announced online at http://www.blm.gov/or/rac/jdrac_meetingnotes.php prior to November 8, 2013.

ADDRESSES: The exact meeting time, agenda, and location will be announced online at http://www.blm.gov/or/rac/jdrac_meetingnotes.php prior to November 8, 2013.

FOR FURTHER INFORMATION CONTACT: Lisa Clark, Public Affairs Specialist, BLM Prineville District Office, 3050 NE. 3rd St., Prineville, Oregon 97754, (541) 416-6864, or email lmclark@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The John Day—Snake RAC consists of 15 members chartered and appointed by the Secretary of the Interior. Their diverse perspectives are represented in commodity, conservation, and general interests. They provide advice to BLM and Forest Service resource managers regarding management plans and proposed resource actions on public land in central and eastern Oregon. Tentative agenda items for the November 14-15, 2013, meeting include: Fee proposal for the John Day River; and planning future meeting agendas, dates, and locations. Any other matters that may reasonably come before the John Day—Snake RAC may also be addressed. This meeting is open to the public in its entirety. Information to be distributed to the John Day—Snake RAC is requested prior to the start of each meeting. A public comment period will be available each day of the session. Unless otherwise approved by the John Day—Snake RAC Chair, the public comment period will last no longer than 30 minutes, and each speaker may address the John Day—Snake RAC for a maximum of 5 minutes. Meeting times and the duration scheduled for public comment periods may be extended or altered when the authorized representative considers it necessary to accommodate necessary business and all who seek to be heard regarding matters before the John Day—Snake RAC.

Before including your address, phone number, email address, or other personal identifying information in your comments, please be aware that your entire comment—including your personal identifying information—may be made publicly available at any time. While you can ask us in your comment to withhold your personal identifying information from public review, we cannot guarantee that we will be able to do so.

Carol Benkosky,
Prineville District Manager.

[FR Doc. 2013-25309 Filed 10-25-13; 8:45 am]

BILLING CODE 4310-33-P